DEPARTMENT OF HOMELAND SECURITY

U.S. Customs and Border Protection

[1651-0077]

Customs-Trade Partnership Against Terrorism (CTPAT) and CTPAT Trade Compliance Program; Correction

AGENCY: U.S. Customs and Border Protection (CBP), Department of Homeland Security.

ACTION: 60-Day notice and request for comments; revision of an existing collection of information; correction.

SUMMARY: On February 18, 2022, U.S. Customs and Border Protection (CBP) published a document in the Federal Register requesting comments from the public and affected agencies on revisions to the information collection, in accordance with the Paperwork Reduction Act of 1995 (PRA), that is part of Customs-Trade Partnership Against Terrorism (CTPAT) and the CTPAT Trade Compliance Program. The document contained information about the CTPAT Portal that was in the process of being updated to meet current modern computing standards and to allow for updates to the minimum-security criteria. Due to unforeseen developmental delays, CBP is pausing proposed updates to these internal systems. This document corrects the February 18, 2022 document to remove inaccurate references in light of the paused updates, and to add certain types of CTPAT program participants that were inadvertently omitted from the list in the Abstract.

FOR FURTHER INFORMATION CONTACT: Seth Renkema, Chief, Economic Impact Analysis Branch, U.S. Customs and Border Protection, Office of Trade, Regulations and Rulings, 90 K Street NE, 10th Floor, Washington, DC 20229-1177, telephone number 202-325-0056, or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: On February 18, 2022, U.S. Customs and Border Protection (CBP) published in the Federal Register (87 FR 9371) a document requesting comments from the public and affected agencies on revisions to the information collection, in accordance with the Paperwork Reduction Act of 1995 (PRA), that is part of Customs-Trade Partnership Against Terrorism (CTPAT) and the CTPAT Trade Compliance Program. The document contained information about the CTPAT Portal that was in the process of being updated to meet current modern computing standards and to allow for updates to the minimum-security criteria. Those updates would enhance operational efforts and allow for the expansion of new features not possible in the current version of the Portal's platform. Due to unforeseen developmental delays, CBP is pausing the proposed update of these internal systems. As a result, certain parts of the CTPAT program description contained in the February 18, 2022 document are inaccurate. This correction is being issued to remove all inaccurate information regarding the program that was published in the February 18, 2022 document.

Additionally, third-party logistics providers and Mexican long-haul highway carriers were inadvertently omitted from the list of eligible CTPAT program participants in the Abstract section of the document. This document corrects that omission by adding these two types of parties in the list of eligible CTPAT program participants in the Abstract.

Any future updates to the Portal and/or new requests for information, will continue to be posted when the need arises and, if, or when, the CTPAT Portal is able to resume its needed updates to modernize the platform.

Correction

In the Federal Register of February 18, 2022, in FR document 2022-03503, starting on page 9372, in the second column, under the subheading Overview of This Information Collection, revise the Abstract to read as follows:

“The CTPAT Program comprises two different program divisions: CTPAT Security and CTPAT Trade Compliance. The CTPAT Security program is designed to safeguard the world's trade industry from terrorists and smugglers by prescreening its participants. The CTPAT Security program applies to U.S. and nonresident Canadian importers, U.S. exporters, customs brokers, consolidators, port and terminal operators, carriers of cargo in/on air, sea and land, third-party logistics providers, Mexican long-haul highway carriers, and Canadian and Mexican manufacturers. However, the Trade Compliance program division is available for U.S. and nonresident Canadian importers only.

The CTPAT Security program application requests an applicant's contact and business information, including the number of company employees, the number of years in business, and a list of company officers. This collection of information is authorized by the SAFE Port Act (Pub. L. 109-347).

The CTPAT Trade Compliance program is an optional component of the CTPAT program and adds trade compliance aspects to the supply chain security aspects of the CTPAT Security program. The CTPAT Security program is a prerequisite to applying to the CTPAT Trade Compliance program. Current CTPAT importers are given the opportunity to receive additional benefits in exchange for a commitment to assume responsibility for monitoring their own compliance by applying to the CTPAT Trade Compliance program. After a company has completed the security aspects of the CTPAT Security program and is in good standing, it may opt to apply to the CTPAT Trade Compliance component. The CTPAT Trade Compliance program strengthens security by leveraging the CTPAT supply chain requirements, identifying low-risk trade entities for supply chain security, and increasing the overall efficiency of trade by segmenting risk and processing by account.

The CTPAT Trade Compliance program is open to U.S. and nonresident Canadian importers that have satisfied both the CTPAT supply chain security and trade compliance requirements.

The CTPAT Trade Compliance program application includes questions about the following:

• Primary Point of Contact including name, title, email address, and phone number

• Business information including Company Name, Company Address, Company phone number, Company website, Company type (private or public), CBP Bond information, Importer of Record Number, and number of employees

• Information about the applicant's Supply Chain Security Profile

• Trade Compliance Profile and Internal Control Operating Procedures of the applicant

• Broker information

• Training material for Supply Chain Security and Trade Compliance

• Risk Assessment documentation and results

• Period testing documentation and results

• Prior disclosure history

• Partner Government Agency affiliation information

After an importer obtains CTPAT Trade Compliance membership, the importer will be required to submit an Annual Notification Letter to CBP confirming that it is continuing to meet the requirements of the program. This letter should include: Personnel changes that affect the CTPAT Trade Compliance program; organizational and procedural changes; a summary of risk assessment and self-testing results; a summary of post-entry amendments and/or disclosures made to CBP; and any importer activity changes within the last 12-month period.”

Dated: March 1, 2022.
Seth D. Renkema,
Branch Chief, Economic Impact Analysis Branch, U.S. Customs and Border Protection.

[FR Doc. 2022-04642 Filed 3-3-22; 8:45 am]

BILLING CODE 9111-14-P